DEPARTMENT OF DEFENSE

GENERAL SERVICES ADMINISTRATION

NATIONAL AERONAUTICS AND SPACE ADMINISTRATION

48 CFR Parts 6, 31, 32, and 42

[FAC 97-17; Item VI]

Federal Acquisition Regulation; Technical Amendments

AGENCIES: Department of Defense (DoD), General Services Administration (GSA), and National Aeronautics and Space Administration (NASA).

ACTION: Technical amendments.

SUMMARY: This document makes amendments to the Federal Acquisition Regulation in order to update references and make editorial changes.

EFFECTIVE DATE: April 25, 2000.

FOR FURTHER INFORMATION CONTACT: The FAR Secretariat, Room 4035, GS Building, Washington, DC 20405, (202) 501-4755.

List of Subjects in 48 CFR Parts 6, 31, 32, and 42

Government procurement.

Dated: April 13, 2000.
Edward C. Loeb,
Director, Federal Acquisition Policy Division.

Therefore, DoD, GSA, and NASA amend 48 CFR Parts 6, 31, 32, and 42 as set forth below:

1. The authority citation for 48 CFR Parts 6, 31, 32, and 42 continues to read as follows:

Authority: 40 U.S.C. 486(c); 10 U.S.C. chapter 137; and 42 U.S.C. 2473(c).

PART 6—COMPETITION REQUIREMENTS

2. In section 6.304, revise the second sentence of paragraph (a)(4) to read as follows:

6.304 Approval of the justification.

(a) * * *

(4) * * * This authority is not delegable except in the case of the Under Secretary of Defense for Acquisition, Technology, and Logistics, acting as the senior procurement executive for the Department of Defense.

* * * * *

PART 31—CONTRACT COST PRINCIPLES AND PROCEDURES

31.101 [Amended]

3. In section 31.101, in the last sentence, remove “Acquisition and Technology” and add in its place “Acquisition, Technology, and Logistics”.

PART 32—CONTRACT FINANCING

4. Remove “19_” and add “20_” in the following places:

a. Section 32.411 in the Agreement for Special Bank Account; in paragraph (a) of Recitals; and after paragraph (e) of Covenants; and

b. Section 32.805(c) in the Acknowledgement.

32.502-4 [Amended]

5. In section 32.502-4 amend paragraph (a)(3) and (a)(4) by removing “(a)(5)” and adding in their places “(a)(6)”.

PART 42—CONTRACT ADMINISTRATION AND AUDIT SERVICES

6. Remove “19_” and add “20_” in the following places:

a. Section 42.1204, in the Novation Agreement following paragraph (i) at paragraphs (a)(2), (a)(8) (twice), and in the Certificates following paragraph (b)(9); and

b. Section 42.1205, in the Change-of-Name Agreement following paragraph (b) at paragraph (a)(2); and in the Certificate following paragraph (b)(2).

[FR Doc. 00-10136 Filed 4-24-00; 8:45 am]

BILLING CODE 6820-EP-P